DEPARTMENT OF ENERGY

Federal Energy Regulatory Commission

Notice of Application Tendered for Filing With the Commission, Solicitation of Additional Study Requests, and Establishing Procedures for Relicensing and a Deadline for Submission of Final Amendments

May 15, 2002.

Take notice that the following hydroelectric application has been filed with the Commission and is available for public inspection.

a. Type of Application: New Major License.

b. Project No.: 2153-012.

c. Date Filed: April 30, 2002.

d. Applicant: United Water Conservation District.

e. Name of Project: Santa Felicia Hydro Project.

f. Location: On the Piru Creek in Ventura County, California. The project affects 174.5 acres of federal land within the Los Padres and Angeles National Forests.

g. Filed Pursuant to: Federal Power Act 16 U.S.C. 791 (a)-825(r).

h. Applicant Contact: Ms. Dana Wisehart, United Water Conservation District, 106 North Eighth Street, Santa Paula, CA 93060.

i. FERC Contact: Jim Fargo, (202) 219-2848 or james.fargo@ferc.gov.

j. Deadline for Filing Additional Study Requests: June 29, 2002.

All documents (original and eight copies) should be filed with: Ms. Magalie R. Salas, Secretary, Federal Energy Regulatory Commission, 888 First Street, NE, Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. See 18 CFR 385.2001(a)(1)(iii) and the instructions on the Commission's web site (http://www.ferc.gov) under the “e-Filing” link.

k. This application is not ready for environmental analysis at this time.

l. The existing Santa Felicia Project consists of: (1) A 200-foot-tall, 1200-foot-long earth fill dam; (2) an 88,000 acre-foot reservoir; (3) an ungated spillway and associated works, (4) a powerhouse with two units having a total installed capacity of 1,434-kilowatts and (5) appurtenant facilities. The applicant estimates that the total average annual generation would be 1,300 megawatthours.

m. A copy of the application is on file with the Commission and is available for public inspection. This filing may also be viewed on the web at http://www.ferc.gov using the “RIMS” link—select “Docket #” and follow the instructions (call 202-208-2222 for assistance). A copy is also available for inspection and reproduction at the address in item h above.

n. With this notice, we are initiating consultation with the CALIFORNIA STATE HISTORIC PRESERVATION OFFICER (SHPO), as required by § 106, National Historic Preservation Act, and the regulations of the Advisory Council on Historic Preservation, 36 CFR 800.4.

o. Procedural Schedule and Final Amendments: The application will be processed according to the following milestones, some of which may be combined to expedite processing:

Notice of application has been accepted for filing

Notice of NEPA Scoping

Notice of application is ready for environmental analysis

Notice of the availability of the draft NEPA document

Notice of the availability of the final NEPA document

Order issuing the Commission's decision on the application

Final amendments to the application must be filed with the Commission no later than 30 days from the issuance date of the notice of ready for environmental analysis.

Linwood A. Watson, Jr.,
Deputy Secretary.

[FR Doc. 02-12745 Filed 5-21-02; 8:45 am]

BILLING CODE 6717-01-P